DEPARTMENT OF JUSTICE

Antitrust Division

Notice Pursuant to the National Cooperative Research and Production Act of 1993—Portland Cement Association

Notice is hereby given that, on December 14, 2009, pursuant to Section 6(a) of the National Cooperative Research and Production Act of 1993, 15 U.S.C. 4301 et seq. (“the Act”), Portland Cement Association (“PCA”) has filed written notifications simultaneously with the Attorney General and the Federal Trade Commission disclosing changes in its membership. The notifications were filed for the purpose of extending the Act's provisions limiting the recovery of antitrust plaintiffs to actual damages under specified circumstances. Specifically, Continental Cement, Hannibal, MO has been added as a party to this venture. Also, the following parties have withdrawn from this venture: ABB, Incorporated, Wickliffe, OH; Air Products and Chemicals, Inc., Allentown, PA; LWB Refractories, York, PA; MikroPul, Charlotte, NC; Penta Engineering Corporation, St. Louis, MO; Gebr. Pfeiffer USA, Inc., Pembroke Pines, FL and River, Columbus, OH.

In addition, the following companies have changed their names: Hanson Permanente Cement, Pleasanton, CA to Lehigh Hanson; Rinker Materials Corporation, West Palm Beach, FL to CEMEX; St. Lawrence Cement Inc., Mount Royal, PQ, CANADA to Holcim Canada.

No other changes have been made in either the membership or planned activity of the group research project. Membership in each project remains open, and PCA intends to file additional written notification disclosing all changes in membership.

On January 7, 1985, PCA filed its original notification pursuant to Section 6(a) of the Act. The Department of Justice published a notice in the Federal Register pursuant to Section 6(b) of the Act on February 5, 1985 (50 FR 5015).

The last notification was filed with the Department on May 18, 2009. A notice was published in the Federal Register pursuant to Section 6(b) of the Act on August 9, 2009 (74 FR 30327).

Patricia A. Brink,
Deputy Director of Operations, Antitrust Division.

[FR Doc. 2010-1243 Filed 1-26-10; 8:45 am]

BILLING CODE 4410-11-M